SMALL BUSINESS ADMINISTRATION

[Declaration of Disaster #3316]

State of Oklahoma; Amendment #2

In accordance with a notice from the Federal Emergency Management Agency, dated January 23, 2001, the above-numbered Declaration is hereby amended to include the following counties in the State of Oklahoma as disaster areas due to damages caused by a severe winter ice storm beginning on December 25, 2000 and continuing through January 10, 2001: Caddo, Comanche, Craig, Delaware, Mayes, Ottawa, Rogers, and Tillman.

In addition, applications for economic injury loans from small businesses located in the following contiguous counties may be filed until the specified date at the previously designated location: Blaine, Custer, Jackson, Kiowa and Washita in Oklahoma; Labette and Cherokee in Kansas; McDonald and Newton in Missouri; and Wilbarger in Texas. Any counties contiguous to the above named primary counties and not listed here have been previously declared.

The economic injury number for the State of Missouri is 9K43.

All other information remains the same, i.e., the deadline for filing applications for physical damage is March 6, 2001 and for economic injury the deadline is October 5, 2001.

(Catalog of Federal Domestic Assistance Program Nos. 59002 and 59008)
Dated: January 24, 2001.
James E. Rivera,
Deputy Associate Administrator for Disaster Assistance.

[FR Doc. 01-2679 Filed 1-30-01; 8:45 am]

BILLING CODE 8025-01-U